BROADCASTING BOARD OF GOVERNORS

Government in the Sunshine Act Meeting Notice

DATE AND TIME: Saturday, February 11, 2012, 2:30 p.m.-3:30 p.m. EDT.

PLACE: Telephonic Meeting.

SUBJECT: Notice of Special Meeting of the Broadcasting Board of Governors.

SUMMARY: The members of the Broadcasting Board of Governors (BBG) will meet in a special session to consider the issue of Board leadership following the recent departure of the Board Chairman. The BBG will be meeting at the time listed above. At the meeting, which will be conducted telephonically, the BBG will consider the conduct of Board operations in the absence of a Chair. Due to the meeting's short notice, the Agency is unable to make it available for public observation via live streaming webcast. However, a complete audio recording and a verbatim transcript of the meeting will promptly be made available for public observation on the BBG's public Web site at www.bbg.gov.

CONTACT PERSON FOR MORE INFORMATION: Persons interested in obtaining more information should contact Paul Kollmer-Dorsey at (202) 203-4545.

Paul Kollmer-Dorsey,
Deputy General Counsel.

[FR Doc. 2012-3408 Filed 2-9-12; 4:15 pm]

BILLING CODE 8610-01-P